NUCLEAR REGULATORY COMMISSION

[Docket No. 50-293]

Entergy Nuclear Operations, Inc.; Pilgrim Nuclear Power Station Exemption

1.0 Background

Entergy Nuclear Operations, Inc. (Entergy or the licensee) is the holder of Facility Operating License No. DPR-35, which authorizes operation of the Pilgrim Nuclear Power Station (Pilgrim). The license provides, among other things, that the facility is subject to all rules, regulations, and orders of the Nuclear Regulatory Commission (NRC or the Commission) now or hereafter in effect.

The facility consists of a boiling-water reactor located in Plymouth County, Massachusetts.

2.0 Request/Action

Title 10 of the Code of Federal Regulations (10 CFR), Part 50, § 50.75(f)(3), requires that “Each power reactor licensee shall at or about 5 years prior to the projected end of operations submit a preliminary decommissioning cost estimate which includes an up-to-date assessment of the major factors that could affect the cost to decommission.” Section 50.75(f)(5) requires a licensee at the same time to include, if necessary, plans to adjust funding levels to demonstrate a reasonable level of financial assurance, that funds will be available when needed for decommissioning. The current operating licensee expires on June 8, 2012.

In summary, by letter dated February 28, 2008, Agencywide Documents Access and Management System (ADAMS) accession number ML081000176, Entergy requested an exemption to the schedule requirement of 10 CFR 50.75(f)(3) to allow Entergy to submit the Pilgrim site-specific preliminary cost estimate by August 1, 2008, which is less than 4 years from the date of the expiration of the operating license. The exemption request applies to the timing of the submission of the preliminary cost estimate and did not request an exemption from any of the information requirements of the regulation.

3.0 Discussion

Pursuant to 10 CFR 50.12, the Commission may, upon application by any interested person or upon its own initiative, grant exemptions from the requirements of 10 CFR Part 50 when (1) the exemptions are authorized by law, will not present an undue risk to public health or safety, and are consistent with the common defense and security; and (2) when special circumstances are present. One of these special circumstances, described in 10 CFR 50.12(a)(2)(ii), is that the application of the regulation is not necessary to achieve the underlying purpose of the rule.

As documented in the Decommissioning Considerations for 1991 Rules and Regulations, the underlying purpose of 10 CFR 50.75(f)(3) is to provide a preliminary decommissioning plan, a cost estimate for implementing the plan, and any changes in funding necessary to ensure that there will be sufficient funds for decommissioning.

The NRC staff reviewed the licensee's evaluation in support of the subject exemption request. Entergy submitted the decommissioning funding status report for Pilgrim on March 26, 2008. The NRC staff calculated Pilgrim's required minimum funding assurance based on the formula under 10 CFR 50.75. The trust fund balances to the midpoint of decommissioning (December 2015), as effectively allowed under NRC regulations, was also calculated by applying a 2 percent real rate of return. Based on the formula amount, the Pilgrim decommissioning trust fund has an excess of $125 million as of December 31, 2007, and will have an excess of more than $200 million by the time of expiration of the license.

Entergy submitted a license renewal application (LRA) for Pilgrim on January 25, 2006, which was approximately 6.5 years prior to the expiration date of the operating license for Pilgrim Station. In connection with the LRA, the final supplemental environmental impact statement was issued on July 27, 2007, and the safety evaluation report for the LRA was issued on June 28, 2007. Subsequently, the safety evaluation report was issued as NUREG-1891 on November 30, 2007. Although the licensee stated that the review of the LRA and milestones achieved constitute “a clear indication” that the LRA will be granted, the NRC does not agree.

Entergy's exemption request essentially relies on the fact that its LRA is pending before the NRC, certain milestones have been met, and that Entergy anticipates the NRC will render a final decision on the LRA on or about August 1, 2008. Entergy cites selected language from the statement of considerations for the proposed rule for license renewal, as well as language from the statement of considerations for the final license renewal rule, to support its exemption request. Entergy argues that the level of review, thus far, on the LRA and the achievement of certain milestones “represent a clear indication that the Pilgrim LRA would be ultimately approved.” Therefore, the Commission should waive the requirement for a preliminary cost estimate, according to Entergy. Entergy further argues that “approximately four years prior to the expiration date of the current operating license * * * is within interpretation of the regulation” requiring a preliminary cost estimate at or about 5 years prior to the projected end of operations.

The NRC does not agree that the review, thus far, of the LRA and milestones achieved constitute “a clear indication” that the LRA will be granted. Moreover, the NRC does not agree that submitting a preliminary cost estimate less than 4 years prior to license expiration is within interpretation of the requirements of 10 CFR 50.75(f)(3).¹ Therefore, based on the arguments presented by Entergy, an exemption is not warranted.

¹ If Entergy believes that submitting a preliminary cost estimate less than 4 years prior to the date of license expiration is “within interpretation of the regulation,” then it is not clear why Entergy has filed this exemption request. The NRC staff notes that Entergy has not claimed that the “projected end of operations” unexpectedly moved to an earlier date as a result in change of circumstance (for example, early permanent shutdown), thus resulting in a period of time spent to submit a preliminary cost estimate well short of the 5 years.

However, the NRC has considered the current funding levels of Pilgrim's decommissioning trust and the underlying purpose of 10 CFR 50.75(f)(3). Moreover, the NRC staff is not aware of any information indicating that the preliminary decommissioning cost estimate for Pilgrim is likely to be higher than the current minimum formula amount to such a degree that a problematic underfunding situation will exist that would require a full 5-year period to rectify.

Authorized by Law

This exemption would allow Entergy to submit the Pilgrim site-specific preliminary cost estimate by August 1, 2008, which is less than 4 years from the date of the expiration of the operating license. As stated in Section 3.0 above, 10 CFR 50.12 allows the NRC to grant exemptions from the requirements of 10 CFR Part 50. The NRC staff has determined that granting of the licensee's proposed exemption will not result in a violation of the Atomic Energy Act of 1954, as amended, or the Commission's regulations. Therefore, the exemption is authorized by law.

No Undue Risk To Public Health And Safety

The underlying purpose of 10 CFR 50.75(f)(3), is to ensure that all power reactor licensees maintain minimum decommissioning funding assurance that a facility will be able to decontaminate to NRC standards before a license is terminated. The exemption request applies to the timing of the submission of the preliminary cost estimate and did not request an exemption from any of the information requirements of the regulation.

Based on the above, no new accident precursors are created by allowing Entergy to submit the Pilgrim site-specific preliminary cost estimate by August 1, 2008, which is less than 4 years from the date of the expiration of the operating license. Similarly, the probability of postulated accidents is not increased. Therefore, there is no undue risk (since risk is probability multiplied by consequences) to public health and safety.

Consistent With Common Defense And Security

The proposed exemption would allow Entergy to submit the Pilgrim site-specific preliminary cost estimate by August 1, 2008, which is less than 4 years from the date of the expiration of the operating license. This change to the plant requirements for the preliminary decommissioning cost estimate submittal has no relation to security issues. Therefore, the common defense and security is not impacted by this exemption.

Special Circumstances

One of the special circumstances, described in 10 CFR 50.12(a)(2)(ii), is that the application of the regulation is not necessary to achieve the underlying purpose of the rule. The underlying purpose of 10 CFR 50.75(f)(3), is to ensure that all power reactor licensees maintain minimum decommissioning funding assurance that a facility will be able to decontaminate to NRC standards before a license is terminated. The NRC staff finds that the preliminary decommissioning cost estimate for Pilgrim is not likely to be higher than the current minimum formula amount to such a degree that a problematic underfunding situation will exist that would require a full 5-year period to rectify.

Based upon consideration of the information in the licensee's submittal, the NRC staff concludes that this exemption meets the underlying purpose of the rule.

4.0 Conclusion

Accordingly, the Commission has determined that, pursuant to 10 CFR 50.12(a), the exemption is authorized by law, will not present an undue risk to the public health and safety, and is consistent with the common defense and security. In addition, a special circumstance is present such that the application of the regulation in these particular circumstances is not necessary to achieve the underlying purpose of the rule. Therefore, the Commission hereby grants Entergy a schedule exemption from the requirement of 10 CFR 50.75(f)(3) to submit the Pilgrim site-specific preliminary cost estimate by August 1, 2008.

Pursuant to 10 CFR 51.32, the Commission has determined that the granting of this exemption will not have a significant effect on the quality of the human environment (73 FR32607).

This exemption is effective upon issuance.

Dated at Rockville, Maryland, this 9th day of June 2008.
For the Nuclear Regulatory Commission.
Timothy McGinty,
Acting Director, Division of Operating Reactor Licensing, Office of Nuclear Reactor Regulation.

[FR Doc. E8-13321 Filed 6-12-08; 8:45 am]

BILLING CODE 7590-01-P